DEPARTMENT OF THE INTERIOR

National Park Service

[NPS-WASO-NAGPRA-11916; 2200-1100-665]

Notice of Inventory Completion: U.S. Department of Energy Oak Ridge Office, Oak Ridge, TN; Correction

AGENCY: National Park Service, Interior.

ACTION: Notice; correction.

SUMMARY: The U.S. Department of Energy Oak Ridge Office has corrected an inventory of human remains and associated funerary object published in a Notice of Inventory Completion in the Federal Register on November 16, 2012. This notice corrects the list of tribes culturally affiliated with the human remains and associated funerary object identified in the earlier notice. Representatives of any Indian tribe that believes itself to be culturally affiliated with the human remains and associated funerary object may contact the U.S. Department of Energy Oak Ridge Office. Repatriation of the human remains and associated funerary object to the Indian tribes stated below may proceed may occur if no additional claimants come forward.

DATES: Representatives of any Indian tribe that believes it has a culturally affiliation with the human remains and associated funerary object should contact the U.S. Department of Energy Oak Ridge Office at the address in this notice by February 11, 2013.

ADDRESSES: Katatra Vasquez, U.S. Department of Energy Oak Ridge Office, P.O. Box 2001, SE-32, Oak Ridge, TN 37831, telephone (865) 576-0835.

SUPPLEMENTARY INFORMATION: Notice is here given in accordance with the Native American Graves Protection and Repatriation Act (NAGPRA), 25 U.S.C. 3003, of the correction of an inventory of human remains and associated funerary object in the possession of the U.S. Department of Energy Oak Ridge Office. The human remains and associated funerary object were removed from Roane County, TN.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

This notice corrects the list of tribes culturally affiliated with the human remains and associated funerary object identified in the Notice of Inventory Completion published in the Federal Register (77 FR 68818-68819, November 16, 2012). In addition to the Eastern Band of Cherokee Indians, the Cherokee Nation and the United Keetoowah Band of Cherokee Indians in Oklahoma have been determined to be culturally affiliated with the human remains and associated funerary object.

Correction

In the Federal Register (77 FR 68818-68819, November 16, 2012), paragraph eight, sentence two is corrected by replacing “the Eastern Band of Cherokee Indians” with “the Cherokee Nation; the Eastern Band of Cherokee Indians; and the United Keetoowah Band of Cherokee Indians in Oklahoma.”

In the Federal Register (77 FR 68818-68819, November 16, 2012), paragraph nine, bullet point three is corrected by replacing “the Eastern Band of Cherokee Indians” with “the Cherokee Nation; the Eastern Band of Cherokee Indians; and the United Keetoowah Band of Cherokee Indians in Oklahoma.”

Additional Requestors and Disposition

Representatives of any Indian tribe that believes itself to be culturally affiliated with the human remains and associated funerary object should contact Katatra Vasquez, U.S. Department of Energy Oak Ridge Office, P.O. Box 2001, SE-32, Oak Ridge, TN 37831, telephone (865) 576-0835 before February 11, 2013. Repatriation of the human remains and associated funerary object to the the Cherokee Nation; the Eastern Band of Cherokee Indians; and the United Keetoowah Band of Cherokee Indians in Oklahoma may proceed after that date if no additional claimants come forward.

The U.S. Department of Energy Oak Ridge Office is responsible for notifying the Cherokee Nation; Chickasaw Nation; Choctaw Nation of Oklahoma; Eastern Band of Cherokee; Eastern Shawnee Tribe of Oklahoma; Poarch Band of Creeks (previously listed as the Poarch Band of Creek Indians of Alabama); Quapaw Tribe of Indians; The Muscogee (Creek) Nation; The Seminole Nation of Oklahoma; and the United Keetoowah Band of Cherokee Indians in Oklahoma, that this notice has been published.

Dated: December 12, 2012.
Sherry Hutt,
Manager, National NAGPRA Program.

[FR Doc. 2013-00453 Filed 1-10-13; 8:45 am]

BILLING CODE 4312-50-P